SMALL BUSINESS ADMINISTRATION

[Declaration of Disaster #3334]

State of New York (And Contiguous Counties in Pennsylvania)

Sullivan County and the contiguous counties of Delaware, Orange and Ulster in the State of New York; and Wayne and Pike Counties in the Commonwealth of Pennsylvania constitute a disaster area due to damages caused by flooding that occurred on December 17, 2000. Applications for loans for physical damage as a result of this disaster may be filed until the close of business on June 26, 2001 and for economic injury until the close of business on January 28, 2002 at the address listed below or other locally announced locations: U.S. Small Business Administration, Disaster Area 1 Office, 360 Rainbow Blvd., South 3rd Floor, Niagara Falls, NY 14303.

The interest rates are:

| Percent
For Physical Damage:
Homeowners with credit available elsewhere | 7.000
Homeowners without credit available elsewhere | 3.500
Businesses with credit available elsewhere | 8.000
Businesses and non-profit organizations without credit available elsewhere | 4.000
Others (including non-profit organizations) with credit available elsewhere | 7.000
For Economic Injury:
Businesses and small agricultural cooperatives without credit available elsewhere | 4.000

The numbers assigned to this disaster for physical damage are 333406 for New York and 333506 for Pennsylvania. For economic injury, the numbers are 9L5300 for New York and 9L5400 for Pennsylvania.

(Catalog of Federal Domestic Assistance Program Nos. 59002 and 59008.)
Dated: April 27, 2001.
John Whitmore,
Acting Administrator.

[FR Doc. 01-11249 Filed 5-3-01; 8:45 am]

BILLING CODE 8025-01-P